COUNCIL ON ENVIRONMENTAL QUALITY

National Environmental Policy Act (NEPA) Oversight; Joint Public Meeting Sponsored With U.S. Institute for Environmental Conflict Resolution, Morris K. Udall Foundation and the State of Wyoming

AGENCY: Council on Environmental Quality.

ACTION: Notice of public meeting.

SUMMARY: The Council on Environmental Quality (CEQ), the U.S. Institute for Environmental Conflict Resolution (IECR) and Governor Freudenthal of Wyoming are hosting a public meeting on June 22, 2004. The meeting will focus on making the National Environmental Policy Act (NEPA) work better for the public by more effectively involving interested communities and individuals. Representatives from CEQ and IECR will briefly discuss the latest NEPA initiatives from their agencies, including CEQ's NEPA Task Force and IECR's National Environmental Conflict Resolution Advisory Committee. Representatives of various public and private organizations will discuss their experiences with involvement in the NEPA process, followed by opportunities for public discussion.

DATES: The meeting will be held on June 22, 2004, from 8:30 a.m. to 4 p.m. Public discussion is scheduled for 11:30 a.m. to 12:15 p.m. and 2:15 p.m.-3 p.m. A lunch break is scheduled from 12:15 p.m.-1:30 p.m.

ADDRESSES: The meeting will take place at the Holiday Inn, 1701 Sheridan Avenue, Cody, Wyoming.

Additional Information: Interested persons may wish to review information about CEQ's NEPA Task Force at the CEQ Web site at http://www.whitehouse.gov/ceq/ or the NEPA Task Force Web site at http://ceq.eh.doe.gov/ntf and information about IECR and the associated National Environmental Conflict Resolution Advisory Committee at http://www.ecr.gov. For further information, contact: Dinah Bear, CEQ, (202) 395-7421; Kirk Emerson, IECR (520) 670-5299, or Mary Flanderka, Governor's Planning Office, at (307) 777-7575.

Dated: June 7, 2004.
Dinah Bear,
General Counsel, Council on Environmental Quality.

[FR Doc. 04-13236 Filed 6-10-04; 8:45 am]

BILLING CODE 3125-01-M